FEDERAL COMMUNICATIONS COMMISSION

47 CFR Part 73

[DA 04-361; MB Docket No. 03-7; RM-10596]

Radio Broadcasting Services; Caledonia and Upper Sandusky, OH

AGENCY: Federal Communications Commission.

ACTION: Final rule.

SUMMARY: In response to a Notice of Proposed Rulemaking, 68 FR 5861 (February 5, 2003), this document grants a petition for rulemaking filed by Clear Channel Broadcasting Licenses, Inc., licensee of Station WYNT(FM), proposing to reallot Channel 240A from Upper Sandusky, to Caledonia, Ohio, as the community's first local aural transmission service, and modify Station WYNT(FM)'s license to reflect the change of community. Channel 240A is reallotted to Caledonia at Station WYNT(FM)'s requested transmitter site 8.2 kilometers (5.1 miles) southwest of the community at coordinates 40-35-43 NL and 83-02-59 WL. Since this proposal is within 320 kilometers (200 miles) of the U.S.-Canada border, concurrence of the government of Canada to the proposed allotment has been requested but not received. Operation with the facilities specified for Caledonia is subject to modification, suspension, or termination without right to hearing, if found by the Commission to be necessary in order to conform to the Canada-United States FM Broadcast Agreement or if specifically objected to by Industry Canada.

DATES: Effective April 12, 2004.

FOR FURTHER INFORMATION CONTACT: Victoria M. McCauley, Media Bureau, (202) 418-2180.

SUPPLEMENTARY INFORMATION: This is a synopsis of the Commission's Report and Order, MB Docket No. 03-7, adopted February 25, 2004, and released February 27, 2004. The full text of this Commission decision is available for inspection and copying during normal business hours in the FCC Reference Center (Room 239), 445 12th Street, SW., Washington, DC. This document may also be purchased from the Commission's duplicating contractor, Qualex International, Portals II, 445 12th Street, SW., Room CY-B402, Washington, DC 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334, and 336.

§ 73.202 [Amended]

2. Section 73.202(b), the Table of FM Allotments under Ohio, is amended by adding Caledonia, Channel 240A and by removing Upper Sandusky, Channel 240A.

Federal Communications Commission.
John A. Karousos,
Assistant Chief, Audio Division, Media Bureau.

[FR Doc. 04-5912 Filed 3-15-04; 8:45 am]

BILLING CODE 6712-01-P